DEPARTMENT OF JUSTICE

Antitrust Division

Notice Pursuant to the National Cooperative Research and Production Act of 1993—V2I-3 Consortium

Notice is hereby given that, on November 27, 2019, pursuant to Section 6(a) of the National Cooperative Research and Production Act of 1993, 15 U.S.C. 4301 et seq. (“the Act”), V2I-3 Consortium (“V2I-3 Consortium”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Ford Motor Company, Dearborn, MI; General Motors Holdings LLC, Detroit, MI; Hyundai-Kia America Technical Center, Inc., Superior Township, MI; Nissan Technical Center N.A., Farmington Hills, MI; and Volkswagen Group of America, Inc., Auburn Hills, MI.

The general area of V2I-3 Consortium's planned activity is to fund and conduct multiple research projects limited to specific areas with specifically-defined technical goals which the participants believe will speed the development of emerging crash avoidance, crash mitigation, and automated vehicle and driver information systems. V2I-3 Consortium's objectives are to gain further knowledge and understanding of connected vehicle interactions and/or applications for vehicles that are intended to transform surface transportation safety, mobility, and environmental performance through a connected vehicle environment.

Suzanne Morris,
Chief, Premerger and Division Statistics Unit, Antitrust Division.

[FR Doc. 2019-27517 Filed 12-19-19; 8:45 am]

BILLING CODE 4410-11-P